COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds products and a service to the Procurement List that will be furnished by nonprofit agencies employing persons who are blind or have other severe disabilities, and deletes products from the Procurement List previously furnished by such agencies.

DATES: Effective Date: 6/4/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 3/2/2012 (77 FR 12816-12817) and 3/9/2012 (77 FR 14352-14353), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Steno Book, 6″ x 9″, Green

NSN: 7530-00-NIB-1012—60 Pages

NSN: 7530-00-NIB-1013—80 Pages

NPA: Alabama Industries for the Blind, Talladega, AL.

Contracting Activity: GENERAL SERVICES ADMINISTRATION, NEW YORK, NY COVERAGE: A-List for the Total Government Requirement as aggregated by the General Services Administration.

Service:

Service Type/Location: Custodial Service, FEMA LA Recovery Office, Sherwood Forest Staging Area, 2695 Sherwood Forest, Baton Rouge, LA.

NPA: Louisiana Industries for the Disabled, Inc., Baton Rouge, LA.

Contracting Activity: Department of Homeland Security, Federal Emergency Management Agency, Baton Rouge, LA.

Deletions

On 3/2/2012 (77 FR 12816-12817), the Committee for Purchase From People Who Are Blind or Severely Disabled published notice of proposed deletions from the Procurement List.

After consideration of the relevant matter presented, the Committee has determined that the products listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Meal Kits (MORC Kits)

NSN: 8970-01-E59-0239A

NSN: 8970-01-E59-0240A

NSN: 8970-01-E59-0241A

NSN: 8970-01-E59-0242A

NSN: 8970-01-E59-0243A

NSN: 8970-01-E59-0244A

NPA: Topeka Association for Retarded Citizens, Topeka, KS.

Contracting Activity: Department of Defense/Office of The Secretary of Defense (Except Military Departments), Washington, DC.

Shaft, Propeller

NSN: 2520-01-171-4844

NPA: VIP Services, Inc., Elkhorn, WI.

Contracting Activity: Defense Logistics Agency Land and Maritime, Columbus, OH.

Barry S. Lineback,
Director, Business Operations.

[FR Doc. 2012-10799 Filed 5-3-12; 8:45 am]

BILLING CODE 6353-01-P